DEPARTMENT OF DEFENSE

Corps of Engineers

Department of the Army

Intent To Prepare a Supplemental Environmental Impact Statement (SEIS) to the Central and Southern Florida Project (C&SF) Comprehensive Review Study Integrated Feasibility Report and Programmatic Environmental Impact Statement on the Water Preserve Areas (WPA) Feasibility Study

AGENCY: Army Corps of Engineers, Department of Defense.

ACTION: Notice of intent.

SUMMARY: The Jacksonville District, U.S. Army Corps of Engineers, intends to prepare a Supplemental Environmental Impact Statement to the C&SF Comprehensive Review Study Integrated Feasibility Report and Programmatic Environmental Impact Statement on the Water Preserve Areas Feasibility Study. the study is located in Palm Beach, Broward, and Miami-Dade Counties east of the Water Conservation Areas and generally west of existing developed areas. The study will investigate concepts to capture and store excess surface waters by backpumping water from the lower east coast urban areas that is normally discharged to tide via the C&SF Project canal system. The C&SF Comprehensive Review Study demonstrated that the Water Preserve Areas concept is an integral part of the Everglades restoration plan.

FOR FURTHER INFORMATION CONTACT: Questions about the proposed action and SEIS can be answered by William Porter, Planning Division, U.S. Army Corps of Engineers, P.O. Box 4970, Jacksonville, Florida 32232-0019, Telephone 904-232-2259, or Fax 904-232-3442.

SUPPLEMENTARY INFORMATION: a. Project Features and Scope: The WPAs feasibility study will evaluate the size, location, and operational aspects of the components of the Comprehensive Plan of the C&SF Project Comprehensive Review Study within the WPAs study boundary to provide for the optimum ecosystem restoration function. Other water-related needs and issues which will be addressed in the detailed engineering design of the WPAs include: water supply/use, water quality, seepage barriers, salt water intrusion, urban development impacts, and the presence of exotics in the proposed WPAs. This WPAs Feasibility Study will contain feasibility level analyses including General Design Memorandum level engineering and design. Some of the tasks associated with the preparation of this report will include surveys and mapping, geotechnical investigations, design optimization, economics, environmental analyses, and real estate analyses. A supplemental National Environmental Policy Act document will be prepared. A Project Management Plan has been prepared that details schedules, funding requirements, and identifies resource needs.

b. Scoping: The scoping process as outlined by the Council on Environmental Quality is being utilized to involve Federal, State, and local agencies, affected Indian Tribes, and other interested private organizations and parties. A Scoping Letter has been sent to interested Federal, State and local agencies, interested organizations and the public, to request their comments and concerns regarding issues they feel should be addressed in the SEIS. Interested persons and organizations wishing to participate in the scoping process should contact the U.S. Army Corps of Engineers at the address above. Significant tissues anticipated include: flood protection and water supply for the project area; reduced drainage of the Everglades and reestablishing natural hydropatterns within existing natural areas, providing short hydroperiod wetlands to increase spatial extent, and providing a buffer between the Everglades and the increasingly urbanized lower east coast area. Public meetings held over the course of the study will be announced in public notices and local newspapers with exact locations, dates, and times.

c. It is estimated that the SEIS will be available to the public by summer 2001.

James C. Duck,
Chief, Planning Division.

[FR Doc. 00-17503 Filed 7-10-00; 8:45 am]

BILLING CODE 3710-AJ-M